DEPARTMENT OF COMMERCE

National Oceanic and Atmospheric Administration

RIN: 0648-XK89

Pacific Fishery Management Council; Public Hearings

AGENCY: National Marine Fisheries Service (NMFS), National

Oceanic and Atmospheric Administration (NOAA), Commerce.

ACTION: Notice of public hearings.

SUMMARY: The Pacific Fishery Management Council (Council) will hold public hearings on draft Amendment 20 (Trawl Rationalization) to its groundfish fishery management plan (FMP). These hearings are preparatory to the final Council decision on Amendment 20, scheduled for the November 2-7, 2008 Council meeting, in San Diego, CA.

DATES: The hearings will be held on October 27-29, 2008.

ADDRESSES: Hearing locations will be held in Newport, OR, Olympia, WA, Eureka, CA, Astoria, OR, and Santa Cruz, CA. See SUPPLEMENTARY INFORMATION for specific addresses.

Council address: Pacific Fishery Management Council, 7700 NE Ambassador Place, Suite 101, Portland, OR 97220.

FOR FURTHER INFORMATION CONTACT: Mr. Jim Seger, telephone: (503) 820-2280.

SUPPLEMENTARY INFORMATION: These public hearings are being held in preparation for a Council final decision on trawl rationalization scheduled for its November 2008 meeting. The agenda for the November 2008 Council meeting will be published in a subsequent Federal Register, prior to the actual meeting. The analytical package supporting the Council deliberations (including a preliminary draft environmental impact statement) is available from the Council web site (www.pcouncil.org) and on request from the Council office.

Schedule for Public Hearings

Public hearings will be held to receive comments on the draft Amendment 20 at the following dates, times and locations:

October 27, 2008 (2 P.M):

•Best Western Agate Beach Inn, (2 sections of Ballroom TBD), 3019 N. Coast Highway, Newport, OR, telephone: (541) 265-9411.

October 28, 2008 (Olympia, 3 P.M., Eureka, 2 P.M.):

•Washington Dept. of Fish Wild, Natural Resources Building, 1st Floor, Room 172, 1111 Washington Street NE, Olympia, WA 98504.

•Red Lion, Evergreen Ballroom, 1929 Fourth Street, Eureka, CA.

October 29, 2008 (3 P.M.):

•Holiday Inn Express, Riverview 1 and 2, 205 West Marine Drive, Astoria, OR.

•University Inn and Conf Center, Sierra Room, 611 Ocean Street, Santa Cruz, CA.

These hearings are exclusively for the purpose of receiving public comment on draft Amendment 20 to the groundfish FMP and the accompanying analytical package. No formal actions will be taken at the hearings.

Special Accommodations

The hearings are physically accessible to people with disabilities. Requests for sign language interpretation or other auxiliary aids should be directed to Ms. Carolyn Porter at (503) 820-2280 (voice), or (503) 820-2299 (fax) at least 5 days prior to the meeting date.

Authority: 16 U.S.C. 1801 et seq.

Dated: October 1, 2008.
Tracey L. Thompson,
Acting Director, Office of Sustainable Fisheries, National Marine Fisheries Service.

[FR Doc. E8-23548 Filed 10-3-08; 8:45 am]

BILLING CODE 3510-22-S